DEPARTMENT OF LABOR

Employee Benefits Security Administration

Advisory Council on Employee Welfare and Pension Benefit Plans Working Group on Financial Literacy, Working Group on Participant Benefit Statements, and Working Group on Fiduciary Responsibilities Updates and Revenue Sharing; Notice of Meeting

Pursuant to the authority contained in Section 512 of the Employee Retirement Income Security Act of 1974 (ERISA), 29 U.S.C. 1142, a public meeting will be held on November 6, 2007 of the Working Groups assigned by the Advisory Council on Employee Welfare and Pension Benefit Plans to study the issues of (1) financial literacy, (2) participant benefit statements, and (3) fiduciary responsibilities updates and revenue sharing.

The sessions will take place in C5515 Room 3, U.S. Department of Labor, 200 Constitution Avenue, NW., Washington, DC 20210. The purpose of the open meeting is for the Working Groups to conclude their report/recommendations to submit to the full Advisory Council. The meetings will start at 1 p.m. with the Working Group on Financial Literacy, followed by the Working Group on Participant Benefit Statements, followed by the Working Group on Fiduciary Responsibilities Updates and Revenue Sharing. The order is subject to change.

Organizations or members of the public wishing to submit a written statement pertaining to the topic may do so by submitting 25 copies on or before October 30, 2007 to Larry Good, Executive Secretary, ERISA Advisory Council, U.S. Department of Labor, Suite N-5623, 200 Constitution Avenue, NW., Washington, DC 20210. Statements also may be submitted electronically to good.larry@dol.gov. Statements received on or before October 30, 2007 will be included in the record of the meeting. Individuals or representatives of organizations wishing to address the Working Group should forward their requests to the Executive Secretary or telephone (202) 693-8668. Oral presentations will be limited to 10 minutes, time permitting, but an extended statement may be submitted for the record. Individuals with disabilities who need special accommodations should contact Larry Good by October 30 at the address indicated.

Signed at Washington, DC this 16th day of October, 2007.
Bradford P. Campbell,
Assistant Secretary, Employee Benefits Security Administration.

[FR Doc. E7-20721 Filed 10-19-07; 8:45 am]

BILLING CODE 4510-29-P